DEPARTMENT OF THE INTERIOR

National Park Service

[N6908; NPS-WASO-NAGPRA-NPS0041938; PPWOCRADN0-PCU00RP14.R50000]

Notice of Intended Repatriation: Robert S. Peabody Institute of Archaeology, Andover, MA

AGENCY: National Park Service, Interior.

ACTION: Notice.

SUMMARY: In accordance with the Native American Graves Protection and Repatriation Act (NAGPRA), the Robert S. Peabody Institute of Archaeology (RSPI) intends to repatriate certain cultural items that meet the definition of unassociated funerary objects, sacred objects, and/or objects of cultural patrimony and that have a cultural affiliation with the Indian Tribes or Native Hawaiian organizations in this notice.

DATES: Repatriation of the cultural items in this notice may occur on or after March 4, 2026.

ADDRESSES: Send additional, written requests for repatriation of the cultural items in this notice to Ryan J. Wheeler, RSPI, Phillips Academy, 180 Main Street, Andover, MA 01810, email rwheeler@andover.edu.

SUPPLEMENTARY INFORMATION: This notice is published as part of the National Park Service's administrative responsibilities under NAGPRA. The determinations in this notice are the sole responsibility of the RSPI, and additional information on the determinations in this notice, including the results of consultation, can be found in the summary or related records. The National Park Service is not responsible for the determinations in this notice.

Abstract of Information Available

A total of 320 cultural items have been requested for repatriation.

The 95 unassociated funerary objects are 30 lots of ceramic items, two lots of chipped stone items, four lots of faunal remains, 23 lots of ground stone items, one lot of minerals, and 35 lots of marine shell items.

The 225 sacred objects are one lot of botanical items, 25 lots of ceramic items, 18 lots of chipped stone items, 12 lots of faunal remains, 130 lots of ground stone items, eight lots of lithic items, 26 lots of marine shell items, four lots of minerals, and one lot of wooden material.

The cultural items were removed from at least 21 localities in Apache, Gila, Maricopa, and Pinal counties, Arizona by various individuals, including Warren K. Moorehead (1898), C.P. Borrowdale (1902), W.E. Ellsworth (1901), George Widdicomb (1910), Monroe Amsden (1922-23), the Gila Pueblo Foundation, Globe, Arizona (1940), and Donnelley Erdman (1978) and transferred to the RSPI (variably known as the Phillips Academy Department of Archaeology or Robert S. Peabody Foundation for Archaeology) at the dates indicated. There is no known presence of any potentially hazardous substances.

The Ak-Chin Indian Community; Gila River Indian Community of the Gila River Indian Reservation, Arizona; Salt River Pima-Maricopa Indian Community of the Salt River Reservation, Arizona; and the Tohono O'Odham Nation of Arizona comprise one cultural group known as the O'Odham. Cultural continuity between the prehistoric Hohokam archeological culture and present-day O'Odham peoples is supported by continuities in settlement patterns, architectural technologies, basketry, textiles, ceramic technology, and ritual practices. Oral traditions that are documented for the Ak-Chin Indian Community; Gila River Indian Community of the Gila River Indian Reservation, Arizona; Salt River Pima-Maricopa Indian Community of the Salt River Reservation, Arizona; and the Tohono O'Odham Nation of Arizona support their cultural affiliation with Hohokam archeological sites in central and southern Arizona.

Determinations

The RSPI has determined that:

• The 95 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 225 sacred objects described in this notice are specific ceremonial objects needed by a traditional Native American religious leader for present-day adherents to practice traditional Native American religion, according to the Native American traditional knowledge of a lineal descendant, Indian Tribe, or Native Hawaiian organization.

• There is a connection between the cultural items described in this notice and the Ak-Chin Indian Community; Gila River Indian Community of the Gila River Indian Reservation, Arizona; Salt River Pima-Maricopa Indian Community of the Salt River Reservation, Arizona; and the Tohono O'odham Nation of Arizona.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 4, 2026. If competing requests for repatriation are received, the RSPI must determine the most appropriate requestor prior to repatriation. Requests for joint repatriation of the cultural items are considered a single request and not competing requests. The RSPI is responsible for sending a copy of this notice to the Indian Tribes and Native Hawaiian organizations identified in this notice and to any other consulting parties.

Authority: Native American Graves Protection and Repatriation Act, 25 U.S.C. 3004 and the implementing regulations, 43 CFR 10.9.

Dated: January 22, 2026.
Melanie O'Brien,
Manager, National NAGPRA Program.

[FR Doc. 2026-02023 Filed 1-30-26; 8:45 am]

BILLING CODE 4312-52-P